ENVIRONMENTAL PROTECTION AGENCY

[FRL-9932-09-Region 2]

Proposed Settlement Pursuant Section 122(h) of CERCLA Relating to the Gowanus Canal Superfund Site, Brooklyn, Kings County, New York

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region 2, of a proposed settlement agreement pursuant to Section 122(h) of CERCLA, entered into by and EPA, Region 2, and Patterson Fuel Oil Co., Inc. (“Settling Party”), pertaining to the Gowanus Canal Superfund Site (“Site”) located in Brooklyn, Kings County, New York. Under the Settlement Agreement, the Settling Party agrees to pay EPA $100,000.00 for the recovery of response actions incurred at the Site.

The Settlement Agreement includes a covenant by EPA not to sue or to take administrative action against the Settling Party pursuant to Sections 106 and 107(a) of CERCLA, 42 U.S.C. 9606 and 9607(a), with regard to the Site, as defined in the Settlement Agreement. For thirty (30) days following the date of publication of this notice, EPA will receive written comments relating to the Settlement Agreement. EPA will consider all comments received and may modify or withdraw its consent to the Settlement Agreement if comments received disclose facts or considerations that indicate that the proposed Settlement Agreement is inappropriate, improper or inadequate. EPA's response to any comments received will be available for public inspection at EPA Region 2 offices, 290 Broadway, New York, New York 10007-1866.

DATES: Comments must be submitted on or before September 9, 2015.

ADDRESSES: The proposed Settlement Agreement can be viewed at http://www.epa.gov/region02/superfund/npl/gowanus/additionaldocs.html. It is also available for public inspection at EPA Region 2 offices at 290 Broadway, New York, New York 10007-1866.

A copy may also be obtained from Brian Carr, Assistant Regional Counsel, New York/Caribbean Superfund Branch, Office of Regional Counsel, U.S. EPA Region 2, 290 Broadway, 17th Floor, New York, New York 10007-1866, 212-637-3170, carr.brian@epa.gov. Comments should reference the Gowanus Canal Superfund Site, Brooklyn, New York. Index No. CERCLA-02-2015-2008 and should be sent by mail or email to Brian Carr, Assistant Regional Counsel, at the address or email address above.

FOR FURTHER INFORMATION CONTACT: Brian Carr, Assistant Regional Counsel, at the address, email or telephone number stated above.

Dated: July 27, 2015.
Walter Mugdan,
Director, Emergency and Remedial Response Division, U.S. Environmental Protection Agency, Region 2.

[FR Doc. 2015-19601 Filed 8-7-15; 8:45 am]

BILLING CODE 6560-50-P